FEDERAL MARITIME COMMISSION

Notice of Agreement Filed

The Commission hereby gives notice of the filing of the following agreement under the Shipping Act of 1984. Interested parties may submit comments on the agreement to the Secretary, Federal Maritime Commission, Washington, DC 20573, within ten days of the date this notice appears in the Federal Register. A Copy of the agreement is available through the Commission's Web site (www.fmc.gov) or by contacting the Office of Agreements at (202)-523-5793 or tradeanalysis@fmc.gov.

Agreement No.: 012213.

Title: Simatech/ELJSA Slot Purchase Agreement.

Parties: Simatech Americas S.A. and Evergreen Line Joint Service Agreement.

Filing Party: Paul M. Keane, Esq.; Cichanowicz, Callan, Keane, Vengrow & Textor, LLP; 61 Broadway, Suite 3000, New York, NY 10006-2802.

Synopsis: The agreement authorizes Evergreen Line Joint Service Agreement to purchase space on Simatech's service between Miami, Florida, and ports in Honduras and Guatemala.

By Order of the Federal Maritime Commission.
Dated: July 19, 2013.
Rachel E. Dickon,
Assistant Secretary.

[FR Doc. 2013-17803 Filed 7-23-13; 8:45 am]

BILLING CODE P